DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: 26 & 27 March 2002.

Time(s) of Meeting: 0900-1700, 26 March 2002, 0900-1300, 27 March 2002.

Place: SAIC.

1. The Acquisition and Technology Panel, Army Science Board FY02 Summer Study on “Affordability of the Objective Force” is holding a meeting on 26-27 March 2002. The meeting will be held at SAIC, 1710 SAIC Drive, McLean, VA. The meeting will begin at 0900hrs on the 26th and will end at approximately 1300hrs on th 27th. For further information, please contact Tom Conway—703-617-9438 or e-mail Conway, Tom Civ AMCRDA01.

Wayne Joyner,
Program Support Specialist, Army Science Board.

[FR Doc. 02-6341 Filed 3-15-02; 8:45 am]

BILLING CODE 3710-08-M